DEPARTMENT OF TRANSPORTATION

Federal Motor Carrier Safety Administration

[Docket No. FMCSA-2016-0027]

Qualification of Drivers; Exemption Applications; Vision

AGENCY: Federal Motor Carrier Safety Administration (FMCSA), DOT.

ACTION: Notice of applications for exemptions; request for comments.

SUMMARY: FMCSA announces receipt of applications from 21 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before June 1, 2016. All comments will be investigated by FMCSA. The exemptions will be issued the day after the comment period closes.

ADDRESSES: You may submit comments bearing the Federal Docket Management System (FDMS) Docket No. FMCSA-2016-0027 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Christine A. Hydock, Chief, Medical Programs Division, (202) 366-4001, fmcsamedical@dot.gov, FMCSA, Department of Transportation, 1200 New Jersey Avenue SE., Room W64-113, Washington, DC 20590-0001. Office hours are 8:30 a.m. to 5 p.m., e.t., Monday through Friday, except Federal holidays. If you have questions regarding viewing or submitting material to the docket, contact Docket Services, telephone (202) 366-9826.

SUPPLEMENTARY INFORMATION:

I. Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 21 individuals listed in this notice have each requested such an exemption from the vision requirement in 49 CFR 391.41(b)(10), which applies to drivers of CMVs in interstate commerce. Accordingly, the Agency will evaluate the qualifications of each applicant to determine whether granting an exemption will achieve the required level of safety mandated by statute.

II. Qualifications of Applicants

Felix Barajas Ramirez

Mr. Barajas Ramirez, 54, has had a retinal detachment in his left eye since 2009. The visual acuity in his right eye is 20/20, and in his left eye, hand motion. Following an examination in 2016, his ophthalmologist stated, “In my medical opinion I see no ocular reason to exclude Mr. Barajas from driving or operating a commercial vehicle.” Mr. Barajas Ramirez reported that he has driven tractor-trailer combinations for 13 years, accumulating 140,000 miles. He holds a Class A CDL from Illinois. His driving record for the last 3 years shows no crashes and no convictions for moving violations in a CMV.

Curtis W. Bottorf

Mr. Bottorf, 61, has had amblyopia in his left eye since childhood. The visual acuity in his right eye is 20/20, and in his left eye, 20/80. Following an examination in 2015, his optometrist stated, “I certify that, in my medical opinion, Curt Bottorf has sufficient vision to perform the driving tasks required to operate a commercial vehicle.” Mr. Bottorf reported that he has driven straight trucks for 23 years, accumulating 345,000 miles. He holds an operator's license from Pennsylvania. His driving record for the last 3 years shows no crashes and no convictions for moving violations in a CMV.

Ronnie E. Boyd

Mr. Boyd, 51, has had corneal ectasia in his right eye since 2013. The visual acuity in his right eye is 20/50, and in his left eye, 20/20. Following an examination in 2015, his ophthalmologist stated, “Ronnie has sufficient vision to perform the driving tasks required to operate a commercial vehicle.” Mr. Boyd reported that he has driven straight trucks for 1 year, accumulating 7,000 miles and tractor-trailer combinations for 6 years, accumulating 480,000 miles. He holds a Class A CDL from Minnesota. His driving record for the last 3 years shows no crashes and no convictions for moving violations in a CMV.

Laurence R. Casey

Mr. Casey, 56, has had amblyopia in his right eye since birth. The visual acuity in his right eye is 20/400, and in his left eye, 20/40. Following an examination in 2016, his ophthalmologist stated, “Mr. Casey has sufficient vision to operate a commercial vehicle.” Mr. Casey reported that he has driven straight trucks for 34 years, accumulating 153,000 miles, and tractor-trailer combinations for 34 years, accumulating 2.04 million miles. He holds a Class AM CDL from Massachusetts. His driving record for the last 3 years shows no crashes and no convictions for moving violations in a CMV.

Jon C. Dillon

Mr. Dillon, 47, has macular scarring in his left eye due to a traumatic incident in 1991. The visual acuity in his right eye is 20/20, and in his left eye, counting fingers. Following an examination in 2016, his optometrist stated, “It is my medical opinion that Mr. Dillion has sufficient vision to perform the driving tests required to operate a commercial vehicle under your guidelines.” Mr. Dillon reported that he has driven straight trucks for 23 years, accumulating 11,500 miles and tractor-trailer combinations for 10 years, accumulating 30,000 miles. He holds a Class A CDL from Minnesota. His driving record for the last 3 years shows no crashes and no convictions for moving violations in a CMV.

Richard W. Ellis

Mr. Ellis, 48, has had a prosthetic right eye since 2000. The visual acuity in his right eye is no light perception, and in his left eye, 20/20. Following an examination in 2015, his optometrist stated, “In regards to his visual competence, Mr. Ellis is quite sufficiently equipped to operate commercial vehicles.” Mr. Ellis reported that he has driven tractor-trailer combinations for 30 years, accumulating 2.4 million miles. He holds a Class A CDL from Iowa. His driving record for the last 3 years shows no crashes and no convictions for moving violations in a CMV.

Shorty Ellis

Mr. Ellis, 52, has had a retinal scar in his right eye since childhood. The visual acuity in his right eye is 20/50, and in his left eye, 20/20. Following an examination in 2015, his optometrist stated, “. . . Mr. Ellis has stable vision that hasn't changed and he is safe to operate a commercial motor vehicle as he has been successfully doing for years.” Mr. Ellis reported that he has driven straight trucks for 35 years, accumulating 280,000 miles, tractor-trailer combinations for 5 years, accumulating 390,000 miles and buses for 2 years, accumulating 2,400 miles. He holds a Class A CDL from North Carolina. His driving record for the last 3 years shows no crashes and no convictions for moving violations in a CMV.

Gregory T. Garris

Mr. Garris, 47, has had a cataract in his right eye since birth. The visual acuity in his right eye is hand motion, and in his left eye, 20/20. Following an examination in 2015, his ophthalmologist stated, “Given his long-term record of safely driving with one good eye, I see no reason to deny him continued privilege of driving as a commercial driver.” Mr. Garris reported that he has driven tractor-trailer combinations for 25 years, accumulating 1.63 million miles. He holds a Class A CDL from Oklahoma. His driving record for the last 3 years shows no crashes and no convictions for moving violations in a CMV.

James R. Hammond

Mr. Hammond, 27, has had amblyopia in his right eye since childhood. The visual acuity in his right eye is 20/400 and in his left eye, 20/20. Following an examination in 2015, his optometrist stated, “The patient states that he has safely driven commercial vehicles for many years with no troubles. I think the patient should be able to drive safely with his excellent vision (left eye) and his excellent visual field with both eyes.” Mr. Hammond reported that he has driven straight trucks for 2 years, accumulating 28,080 miles. He holds a Class D CDL from Ohio. His driving record for the last 3 years shows no crashes and no convictions for moving violations in a CMV.

Russell P. Kosinko

Mr. Kosinko, 55, has a scar in his right eye due to a traumatic incident in 2011. The visual acuity in his right eye is 20/600, and in his left eye, 20/30. Following an examination in 2015, his optometrist stated, “In my medical opinion Russell does have sufficient vision to perform the driving tasks required to operate a commercial vehicle.” Mr. Kosinko reported that he has driven straight trucks for 20 years, accumulating 2 million miles, and tractor-trailer combinations for 20 years, accumulating 520,000 miles. He holds a Class AM CDL from Pennsylvania. His driving record for the last 3 years shows no crashes and no convictions for moving violations in a CMV.

Christopher B. Liston

Mr. Liston, 47, has had a chorioretinal scar in his right eye since birth. The visual acuity in his right eye is 20/70, and in his left eye, 20/20. Following an examination in 2016, his optometrist stated, “It is my opinion that Mr. Liston has sufficient vision to perform driving tasks required to operate a commercial vehicle as it relates to his vision.” Mr. Liston reported that he has driven straight trucks for 11 years, accumulating 126,720 miles, and tractor-trailer combinations for 11 years, accumulating 31,680 miles. He holds a Class AM CDL from Tennessee. His driving record for the last 3 years shows one crash, to which he did not contribute and for which he was not cited, and no convictions for moving violations in a CMV.

Larry D. Miller

Mr. Miller, 72, has had a prosthetic right eye since 1969. The visual acuity in his right eye is no light perception, and in his left eye, 20/25. Following an examination in 2015, his optometrist stated, “In my professional medical opinion, Mr. Larry Miller has sufficient vision to perform the driving tasks required to operate a commercial vehicle.” Mr. Miller reported that he has driven straight trucks for 10 years, accumulating 250,000 miles, and tractor-trailer combinations for 43 years, accumulating 4.3 million miles. He holds a Class A CDL from Missouri. His driving record for the last 3 years shows no crashes and no convictions for moving violations in a CMV.

Mickael P. Miller

Mr. Miller, 52, has had exotropia in both eyes since childhood, preventing him from using both eyes together. The visual acuity in his right eye is 20/20, and in his left eye, 20/20. Following an examination in 2016, his optometrist stated, “In my opinion Mr. Miller has vision adequate to drive a commercial vehicle, especially in light of his long work history doing this very job with an apparently successful track record.” Mr. Miller reported that he has driven straight trucks for 25 years, accumulating 50,000 miles. He holds a Class B CDL from Louisiana. His driving record for the last 3 years shows no crashes and no convictions for moving violations in a CMV.

Benny D. Patterson

Mr. Patterson, 56, has had amblyopia in his left eye since childhood. The visual acuity in his right eye is 20/20, and in his left eye, counting fingers. Following an examination in 2015, his ophthalmologist stated, “I do feel that Mr. Patterson, in my medical opinion, has sufficient vision to perform the driving tasks required to operative [sic] a commercial motor vehicle with the monocular Vision Exemption Program.” Mr. Patterson reported that he has driven straight trucks for 38 years, accumulating 760,000 miles and tractor-trailer combinations for 35 years, accumulating 875,000 miles. He holds a Class A CDL from Ohio. His driving record for the last 3 years shows no crashes and no convictions for moving violations in a CMV.

James A. Peterson

Mr. Peterson, 67, had a retinal detachment in his left eye in 1965. The visual acuity in his right eye is 20/20, and in his left eye, counting fingers. Following an examination in 2015, his ophthalmologist stated, “His color vision is completely normal, and in my medical opinion, he has sufficient vision to perform the driving tasks required to operate a commercial vehicle.” Mr. Peterson reported that he has driven straight trucks for 3 years, accumulating 30,000 miles, and tractor-trailer combinations for 20 years, accumulating 1 million miles. He holds a Class A CDL from Ohio. His driving record for the last 3 years shows no crashes and no convictions for moving violations in a CMV.

Jose R. Pitre Rodriguez

Mr. Pitre Rodriguez, 57, has had amblyopia in his right eye since childhood. The visual acuity in his right eye is 20/400, and in his left eye, 20/20. Following an examination in 2015, his optometrist stated, “Mr. Pitre has sufficient vision to perform the driving test required and to operate a commercial vehicle.” Mr. Pitre Rodriguez reported that he has driven straight trucks for 23 years, accumulating 61,600 miles. He holds a Class A CDL from FL. His driving record for the last 3 years shows no crashes and no convictions for moving violations in a CMV.

John Rueckert

Mr. Rueckert, 63, had a retinal detachment in his left eye in 2013. The visual acuity in his right eye is 20/20, and in his left eye, 20/100. Following an examination in 2015, his optometrist stated, “In my opinion, John has sufficient vision to perform the driving tasks required to operate a commercial vehicle.” Mr. Rueckert reported that he has driven straight trucks for 45 years, accumulating 2.25 million miles and tractor-trailer combinations for 39 years, accumulating 5.85 million miles. He holds a Class A CDL from South Dakota. His driving record for the last 3 years shows no crashes and no convictions for moving violations in a CMV.

Joseph W. Schmit

Mr. Schmit, 54, has a prosthetic left eye due to a traumatic incident in 1987. The visual acuity in his right eye is 20/20, and in his left eye, no light perception. Following an examination in 2016, his optometrist stated, “It is my medical opinion that he has sufficient vision to perform the driving tasks required to operate a commercial vehicle.” Mr. Schmit reported that he has driven straight trucks for 20 years, accumulating 250,000 miles and tractor-trailer combinations for 4 years, accumulating 22,000 miles. He holds a Class A CDL from Nebraska. His driving record for the last 3 years shows no crashes and no convictions for moving violations in a CMV.

Douglas R. Strickland

Mr. Strickland, 25, has had refractive amblyopia in his right eye since childhood. The visual acuity in his right eye is 20/400, and in his left eye, 20/20. Following an examination in 2015, his optometrist stated, “He should be cleared to drive a commercial vehicle from a visual standpoint in my opinion.” Mr. Strickland reported that he has driven straight trucks for 8 years, accumulating 12,800 miles. He holds a Class C CDL from North Carolina. His driving record for the last 3 years shows no crashes and no convictions for moving violations in a CMV.

Vladimir Szudor

Mr. Szudor, 44, has had amblyopia in his right eye since childhood. The visual acuity in his right eye is 20/200, and in his left eye, 20/20. Following an examination in 2015, his optometrist stated, “Yes, Mr. Szudor has sufficient vision to perform the driving tasks to operate commercial vehicle.” Mr. Szudor reported that he has driven buses for 8 years, accumulating 320,000 miles. He holds an operator's license from Florida. His driving record for the last 3 years shows no crashes and no convictions for moving violations in a CMV.

Marvin S. Zimmerman

Mr. Zimmerman, 69, has had amblyopia in his right eye since childhood. The visual acuity in his right eye is light perception, and in his left eye, 20/20. Following an examination in 2015, his optometrist stated, “In my medical opinion Mr. Zimmerman has sufficient vision to perform the driving tasks required to operate a commercial vehicle.” Mr. Zimmerman reported that he has driven tractor-trailer combinations for 40 years, accumulating 5.2 million miles. He holds a Class A CDL from Pennsylvania. His driving record for the last 3 years shows no crashes and no convictions for moving violations in a CMV.

III. Public Participation and Request for Comments

FMCSA encourages you to participate by submitting comments and related materials.

Submitting Comments

If you submit a comment, please include the docket number for this notice, indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and put the docket number FMCSA-2016-0027 in the “Keyword” box, and click “Search. When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope.

FMCSA will consider all comments and material received during the comment period. FMCSA may issue a final determination at any time after the close of the comment period.

Viewing Comments and Documents

To view comments, as well as documents mentioned in this preamble as being available in the docket, go to http://www.regulations.gov and insert the docket number FMCSA-2016-0027 in the “Keyword” box and click “Search.” Next, click “Open Docket Folder” button and choose the document listed to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

Issued on: April 26, 2016.
Larry W. Minor,
Associate Administrator for Policy.

[FR Doc. 2016-10200 Filed 4-29-16; 8:45 am]

BILLING CODE 4910-EX-P